DEPARTMENT OF TRANSPORTATION

Federal Aviation Administration

14 CFR Part 39

[Docket No. FAA-2009-0689; Directorate Identifier 2009-NM-092-AD; Amendment 39-16081; AD 2009-23-09]

RIN 2120-AA64

Airworthiness Directives; Bombardier Model CL-600-1A11 (CL-600), CL-600-2A12 (CL-601), CL-600-2B16 (CL-601-3A) Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

Two cases have been reported in which the ADG [air driven generator] has failed to power the essential bus following in-flight deployment as part of its periodic operational check. Subsequent inspection revealed that the ADG power feeder harness wire (* * * [aromatic polyimide]) had chafed on the backshell of its own connector (P1XC), resulting in a short circuit, wire damage and disconnection of the wire from the ADG. Coupled with a dual generator failure, such a disconnection would result in the loss of emergency power to critical systems, with a consequent adverse effect on the controllability of the aircraft.

* * * * *

We are issuing this AD to require actions to correct the unsafe condition on these products.

DATES: This AD becomes effective December 14, 2009.

The Director of the Federal Register approved the incorporation by reference of certain publications listed in this AD as of December 14, 2009.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Wing Chan, Aerospace Engineer, Avionics and Flight Test Branch, ANE-172, FAA, New York Aircraft Certification Office, 1600 Stewart Avenue, Suite 410, Westbury, New York 11590; telephone (516) 228-7311; fax (516) 794-5531.

SUPPLEMENTARY INFORMATION:

Discussion

We issued a notice of proposed rulemaking (NPRM) to amend 14 CFR part 39 to include an AD that would apply to the specified products. That NPRM was published in the Federal Register on August 5, 2009 (74 FR 38999). That NPRM proposed to correct an unsafe condition for the specified products. The MCAI states:

Two cases have been reported in which the ADG [air driven generator] has failed to power the essential bus following in-flight deployment as part of its periodic operational check. Subsequent inspection revealed that the ADG power feeder harness wire (* * * [aromatic polyimide]) had chafed on the backshell of its own connector (P1XC), resulting in a short circuit, wire damage and disconnection of the wire from the ADG. Coupled with a dual generator failure, such a disconnection would result in the loss of emergency power to critical systems, with a consequent adverse effect on the controllability of the aircraft.

This directive mandates an inspection to determine the type of wire in the installed ADG power feeder harness. If the wires are a * * * [aromatic polyimide] type, the ADG power feeder harness is to be replaced with one incorporating * * * [non-aromatic polyimide] type wire.

You may obtain further information by examining the MCAI in the AD docket.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a Note within the AD.

Costs of Compliance

We estimate that this AD will affect about 203 products of U.S. registry. We also estimate that it will take about 2 work-hours per product to comply with the basic requirements of this AD. The average labor rate is $80 per work-hour. Based on these figures, we estimate the cost of this AD to the U.S. operators to be $32,480, or $160 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-23-09 Bombardier, Inc. (Formerly Canadair):Amendment 39-16081. Docket No. FAA-2009-0689; Directorate Identifier 2009-NM-092-AD.

Effective Date

(a) This airworthiness directive (AD) becomes effective December 14, 2009.

Affected ADs

(b) None.

Applicability

(c) This AD applies to the airplanes, certificated in any category, as identified in paragraphs (c)(1), (c)(2), and (c)(3) of this AD.

(1) Bombardier Model CL-600-1A11 (CL-600) airplanes, serial numbers 1004 through 1085 inclusive.

(2) Bombardier Model CL-600-2A12 (CL-601) airplanes, serial numbers 3001 through 3066 inclusive.

(3) Bombardier Model CL-600-2B16 (CL-601-3A) airplanes, serial numbers 5001 through 5131 inclusive.

Subject

(d) Air Transport Association (ATA) of America Code 24: Electrical power.

Reason

(e) The mandatory continuing airworthiness information (MCAI) states:

Two cases have been reported in which the ADG [air driven generator] has failed to power the essential bus following in-flight deployment as part of its periodic operational check. Subsequent inspection revealed that the ADG power feeder harness wire (* * * [aromatic polyimide]) had chafed on the backshell of its own connector (P1XC), resulting in a short circuit, wire damage and disconnection of the wire from the ADG. Coupled with a dual generator failure, such a disconnection would result in the loss of emergency power to critical systems, with a consequent adverse effect on the controllability of the aircraft.

This directive mandates an inspection to determine the type of wire in the installed ADG power feeder harness. If the wires are a * * * [aromatic polyimide] type, the ADG power feeder harness is to be replaced with one incorporating * * * [non-aromatic polyimide] type wire.

Actions and Compliance

(f) Unless already done, within 26 months after the effective date of this AD, inspect the ADG power feeder harness to determine the wire type, in accordance with the Accomplishment Instructions of Bombardier Service Bulletin 600-0737 or 601-0591, both dated July 23, 2007, as applicable. A review of airplane maintenance records is acceptable in lieu of this inspection if the wire type of the power feeder harness can be conclusively determined from that review. If the wire type is determined to be aromatic polyimide, replace the ADG power feeder harness, before further flight, in accordance with Part B of the Accomplishment Instructions of Bombardier Service Bulletin 600-0737 or 601-0591, both dated July 23, 2007, as applicable.

FAA AD Differences

Note 1: This AD differs from the MCAI and/or service information as follows: No differences.

Other FAA AD Provisions

(g) The following provisions also apply to this AD:

(1) Alternative Methods of Compliance (AMOCs): The Manager, New York Aircraft Certification Office (ACO), FAA, has the authority to approve AMOCs for this AD, if requested using the procedures found in 14 CFR 39.19. Send information to ATTN: Wing Chan, Aerospace Engineer, Avionics and Flight Test Branch, ANE-172, FAA, New York ACO, 1600 Stewart Avenue, Suite 410, Westbury, New York 11590; telephone (516) 228-7311; fax (516) 794-5531. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI Canadian Airworthiness Directive CF-2009-18, dated April 27, 2009; and Bombardier Service Bulletins 600-0737 and 601-0591, both dated July 23, 2007; for related information.

Material Incorporated by Reference

(i) You must use Bombardier Service Bulletin 600-0737, dated July 23, 2007; or Bombardier Service Bulletin 601-0591, dated July 23, 2007; as applicable; to do the actions required by this AD, unless the AD specifies otherwise.

(1) The Director of the Federal Register approved the incorporation by reference of this service information under 5 U.S.C. 552(a) and 1 CFR part 51.

(2) For service information identified in this AD, contact Bombardier, Inc., 400 Côte-Vertu Road West, Dorval, Québec H4S 1Y9, Canada; telephone 514-855-5000; fax 514-855-7401; e-mail thd.crj@aero.bombardier.com; Internet http://www.bombardier.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on Ocotober 26, 2009.
Stephen P. Boyd,
Acting Manager, Transport Airplane Directorate, Aircraft Certification Service.

[FR Doc. E9-26593 Filed 11-6-09; 8:45 am]

BILLING CODE 4910-13-P